DEPARTMENT OF LABOR

Employment and Training Administration

[TA-W-58,404]

Weston Foods Ltd., West Hazelton, PA; Notice of Termination of Investigation

Pursuant to Section 221 of the Trade Act of 1974, an investigation was initiated on November 23, 2005 in response to a petition filed on behalf of workers at Weston Foods, Ltd., West Hazelton, Pennsylvania (TA-W-58,404).

The petitioner has requested that the petition be withdrawn. Consequently, further investigation in this case would serve no purpose, and the investigation has been terminated.

Signed in Washington, DC this 8th day of February, 2006.
Linda G. Poole,
Certifying Officer, Division of Trade Adjustment Assistance.

[FR Doc. E6-2497 Filed 2-21-06; 8:45 am]

BILLING CODE 4510-30-P